Title 3—

The President

Memorandum of December 15, 2005

Assignment of Functions Under Section 1306 of Public Law 107-314

Memorandum for the Secretary of State

By virtue of the authority vested in me as President by the Constitution and the laws of the United States, including section 301 of title 3, United States Code, I hereby assign to you the functions of the President under section 1306 of the Bob Stump National Defense Authorization Act for Fiscal Year 2003 (Public Law 107-314)(22 U.S.C. 5952 note), as continued in effect by subsequent law, including section 116 of the Continuing Resolution for Fiscal Year 2006 (Public Law 109-77), as amended.

You are authorized and directed to publish this memorandum in the Federal Register.

B

THE WHITE HOUSE,

Washington, December 15, 2005.

[FR Doc. 06-210

Filed 1-6-06; 8:45 am]

Billing code 4710-10-P